DEPARTMENT OF COMMERCE

National Oceanic and Atmospheric Administration

50 CFR Part 622

[Docket No. 240610-0155]

RIN 0648-BN05

Fisheries of the Caribbean, Gulf of Mexico, and South Atlantic; Snapper-Grouper Fishery of the South Atlantic Region; Temporary Measures To Reduce Overfishing of Red Snapper

AGENCY: National Marine Fisheries Service (NMFS), National Oceanic and Atmospheric Administration (NOAA), Commerce.

ACTION: Temporary rule; interim measures.

SUMMARY: NMFS implements this final temporary rule to reduce overfishing of red snapper in Federal waters of the South Atlantic. For the 2024 fishing year, this temporary rule reduces the commercial and recreational annual catch limits (ACLs) and revises the authority of the Regional Administrator to change the red snapper recreational season dates under certain adverse weather conditions. This temporary rule also announces the red snapper 2024 commercial and recreational fishing season dates in the South Atlantic. This temporary rule is effective for 180 days. The purpose of this temporary rule is to reduce overfishing of red snapper and to provide notification of the red snapper seasons for 2024.

DATES: This temporary rule is effective on June 14, 2024, through December 11, 2024. The 2024 red snapper commercial season opens at 12:01 a.m., local time, July 8, 2024, until 12:01 a.m., local time, January 1, 2025, unless changed by subsequent notification in the Federal Register. The 2024 red snapper recreational season opens at 12:01 a.m., local time, on July 12, 2024, and closes at 12:01 a.m., local time, on July 13, 2024.

ADDRESSES: Electronic copies of the environmental assessment (EA) supporting these interim measures, which includes a Regulatory Impact Review (RIR), may be obtained from the Southeast Regional Office website at https://www.fisheries.noaa.gov/action/2024-south-atlantic-red-snapper-season.

FOR FURTHER INFORMATION CONTACT: Rick DeVictor, NMFS Southeast Regional Office, telephone: 727-824-5305, or email: rick.devictor@noaa.gov.

SUPPLEMENTARY INFORMATION: NMFS, with the advice of the South Atlantic Fishery Management Council (Council), manages the snapper-grouper fishery, which includes red snapper, under the Fishery Management Plan for the Snapper-Grouper Fishery of the South Atlantic Region (FMP). The Council prepared the FMP, and NMFS implements the FMP through regulations at 50 CFR part 622 under authority of the Magnuson-Stevens Fishery Conservation and Management Act (Magnuson-Stevens Act). The EA outlines the rationale for the interim measures contained in this temporary rule, and the EA is available from NMFS (see ADDRESSES section). A summary of the management measures described in the EA and implemented by this temporary rule is provided below.

All weights described in this temporary rule are in round weight unless otherwise specified.

Background

NMFS is implementing interim measures to reduce overfishing of South Atlantic red snapper in 2024 by reducing the commercial and recreational ACLs for 2024. NMFS is taking this action in response to the most recent stock assessment for South Atlantic red snapper, Southeast Data, Assessment, and Review (SEDAR) 73 (2021). The action is intended to reduce overfishing of the South Atlantic red snapper stock in the 2024 fishing year, consistent with the Magnuson-Stevens Act and its National Standards. The Magnuson-Stevens Act requires that NMFS and regional fishery management councils prevent overfishing and achieve, on a continuing basis, the optimum yield (OY) from federally managed fish stocks. These mandates are intended to ensure that fishery resources are managed for the greatest overall benefit to the Nation, particularly with respect to providing food production and recreational opportunities and protecting marine ecosystems. NMFS notified the Council in July 2021 that overfishing of red snapper was occurring, but the Council has failed to take action to end overfishing as required by the Magnuson-Stevens Act.

South Atlantic red snapper is harvested by commercial and recreational fishermen. The current overfishing limit (OFL) and acceptable biological catch (ABC) for red snapper are 56,000 and 53,000 fish, respectively. The total ACL for South Atlantic red snapper is 42,510 fish and is allocated between the commercial sector at 28.07 percent and the recreational sector at 71.93 percent. That allocation ratio results in the current commercial ACL of 124,815 pounds (lb) (56,615 kilograms (kg)) and the recreational ACL of 29,656 fish (50 CFR 622.193(y)). The recreational sector ACL is specified in numbers of fish because that is a more reliable estimate for the recreational sector than specifying the ACL in weight of fish. The current sector ACLs were implemented in 2018 through the final rule to implement Amendment 43 to the FMP (83 FR 35428, July 26, 2018).

The most recent stock assessment for red snapper in the South Atlantic, SEDAR 73, was completed in 2021 using the Beaufort Assessment Model, which is a statistical catch-at age model, and included data through 2019. The results of SEDAR 73 indicated that the South Atlantic red snapper stock remains overfished and is experiencing overfishing, and the overfishing is being primarily driven by high numbers of dead discards in the recreational sector. NMFS notified the Council via letter dated July 23, 2021, of the status of the red snapper stock in the South Atlantic based on the results of SEDAR 73. Following notification that a stock is undergoing overfishing and is overfished, the Magnuson-Stevens Act requires the development of an FMP, amendment, or regulations with actions that end overfishing immediately and rebuild the affected stock. Amendment 17A to the FMP, among other measures, established a red snapper rebuilding plan and specified a 35-year rebuilding schedule with the rebuilding time period ending in 2044 (75 FR 76874, December 9, 2010). Because SEDAR 73 shows that adequate progress towards rebuilding is being made and the stock is projected to be rebuilt by the end of the rebuilding timeframe, the existing rebuilding plan that was implemented through Amendment 17A does not need to be revised, but action is still required to end overfishing.

The SEDAR 73 assessment provided information that can be used to update the status determination criteria and various reference points for red snapper, including ABCs and ACLs. The Council's Scientific and Statistical Committee (SSC) reviewed results of the assessment at its April and July 2021 meetings and recommended new values for the stock status criteria and OFL and ABC levels to the Council at the Council's September 2021 meeting. The SSC recommended new ABCs for each year through 2027, and its ABC recommendation for landed fish in 2024 is 31,000 fish or 368,000 lb (166,922 kg). The SSC's ABC recommendations also presumed a level of reductions in red snapper discards that would require action by the Council.

In response to SEDAR 73, the SSC recommendations, and NMFS's July 2021 notification, the Council considered reducing the red snapper ABCs and ACLs to reduce red snapper landings and changing fishing gear requirements intended to reduce dead discards from the recreational sector through Regulatory Amendment 35 to the FMP (Regulatory Amendment 35). In March 2023, the Council approved Regulatory Amendment 35 for submission to NMFS under section 304(b) of the Magnuson-Stevens Act. However, the Council did not transmit Regulatory Amendment 35 to NMFS, and in December 2023, the Council rescinded its March 2023 action to approve Regulatory Amendment 35 for submission to NMFS. The Council considered the results of a recent pilot study on the possible overestimation of recreational fishing effort, and Council members expressed their individual concerns with Regulatory Amendment 35. The Council requested additional information concerning red snapper at its December 2023 and March 2024 meetings and is not currently developing management measures to begin in 2024 that would address the overfishing of red snapper.

The Council has failed to end the overfishing of red snapper as required by the Magnuson-Stevens Act. In addition, the Council has failed to develop ACLs for red snapper that do not exceed its SSC's fishing level recommendations as required by the Magnuson-Stevens Act. Therefore, NMFS has determined that interim measures to reduce overfishing are necessary for the 2024 fishing year while more permanent measures to end overfishing of red snapper are being considered, including whether to prepare an amendment developed by the Secretary of Commerce pursuant to section 304(c)(1)(A) of the Magnuson-Stevens Act.

To reduce overfishing, NMFS is decreasing the red snapper commercial ACL and recreational ACL through this temporary rule for 2024 to reduce the red snapper landings. These ACL values are the same as the SSC's recommended landed ABC values for 2024 based on SEDAR 73 and are the same as what the Council had previously chosen as its preferred alternative in Regulatory Amendment 35. As described in the EA, the total ACL for red snapper is reduced to 31,000 fish. The total ACL is divided by the Council's current allocation ratio for red snapper of 28.07 percent commercial and 71.93 percent recreational. The revised commercial ACL is 85,268 lb (38,677 kg) and the revised recreational ACL is 21,167 fish. The commercial sector ACL is set in pounds of fish because the commercial sector reports landings in weight, and weight is a more accurate representation of commercial landings. The commercial ACL is calculated using the average of the estimated annual average weights of red snapper commercially landed from 2017 to 2019, which is 8.67 lb (3.93 kg) per fish, as derived from SEDAR 73. The ACL for the recreational sector is specified in numbers of fish because numbers of fish are a more reliable estimate for the recreational sector than specifying the ACL in weight of fish.

NMFS has determined that the action to temporarily reduce the sector ACLs will reduce overfishing of the South Atlantic red snapper stock in the 2024 fishing year, consistent with the Magnuson-Stevens Act, 16 U.S.C. 1855(c)(1), while minimizing adverse effects to the commercial and recreational sectors.

In addition to the interim measures revising the red snapper sector ACLs, NMFS is also implementing interim measures through this temporary rule to revise the authority of the NMFS Southeast Regional Administrator (RA) to change the red snapper recreational season opening and closing dates due to certain adverse weather conditions. Currently, the RA may modify the opening and closing dates of the fishing season if tropical storm or hurricane conditions exist, or are projected to exist, in the South Atlantic during a red snapper fishing season (50 CFR 622.183(b)(5)(ii)). The regulations state that if the RA determines tropical storm or hurricane conditions exist, or are projected to exist, in the South Atlantic, during a commercial or recreational fishing season, the RA may modify the opening and closing dates of the fishing season by filing a notification to that effect with the Office of the Federal Register and announcing via NOAA Weather Radio and a Fishery Bulletin any change in the dates of the red snapper commercial or recreational fishing season. This flexibility for certain weather conditions was established to enhance safety at sea during the fishing season and to help achieve OY by increasing fishing opportunities in the case of tropical weather during an announced season that could limit access. The reduced recreational ACL of 21,167 fish results in a 1-day recreational fishing season in 2024, as discussed later in this temporary rule. In consideration of the 1-day recreational fishing season announced in this temporary rule, NMFS is providing the RA greater flexibility to modify the recreational fishing season dates in case of adverse weather that is classified by the National Weather Service (NWS) at least as severe as a Small Craft Advisory. For the South Atlantic, the NWS defines a Small Craft Advisory as sustained winds of 20 to 33 knots (10 to 17 meters/second), and/or forecast seas of 7 feet (2.1 meters) or greater that are expected for more than 2 hours (https://weather.gov/marine/cwd). Specifically, the RA may modify the opening and closing dates of the recreational fishing season if the RA determines that conditions that result in weather at least as severe as a Small Craft Advisory exist, or are projected to exist, during the announced recreational season in the South Atlantic. In such circumstances, the RA will file a notice to change the recreational season dates with the Office of the Federal Register and announce it via NOAA Weather Radio and a Fishery Bulletin. NMFS has determined that for the 2024 fishing year this interim measure may help mitigate derby-style (race-to-fish) conditions in such adverse weather and is also being implemented to be consistent with Magnuson-Stevens Act National Standard 10 to promote safety of life at sea to the extent practicable. However, as discussed in the National Standard 10 Guidelines, this measure does not replace the judgment or relieve the responsibility of the vessel master related to vessel safety. “The safety of a vessel and the people aboard is ultimately the responsibility of the master of that vessel. Each master makes many decisions about vessel maintenance and loading and about the capabilities of the vessel and crew to operate safely in a variety of weather and sea conditions.” (50 CFR 600.355(b)(3))

The interim measures implemented by this temporary rule would be expected to decrease net economic benefits to the commercial and recreational sectors by $913,274 in the 2024 fishing year (in 2022 dollars) compared to taking no action. However, this reduction in net economic benefits is less than the expected reductions under any of the other action alternatives considered by NMFS and discussed in the EA. Further, the action would result in biological benefits to the red snapper stock by reducing landings in 2024 and reducing overfishing. The reduced ACLs in this temporary rule are expected to help minimize future adverse social and economic effects by potentially decreasing further reductions in the allowable harvest levels required to end overfishing of red snapper that would be required through future action.

Red Snapper Fishing Season

Red snapper may only be harvested or possessed in or from the South Atlantic Federal waters during the respective commercial and recreational seasons. Each year, NMFS announces the season opening dates in the Federal Register (50 CFR 622.183(b)(5)). The commercial season begins on the second Monday in July, unless otherwise specified. The commercial accountability measure (AM) requires the sector to close for the remainder of the fishing year if commercial landings reach or are projected to reach the commercial ACL. The recreational season, which consists of weekends only (Fridays, Saturdays, and Sundays), begins on the second Friday in July, unless otherwise specified. NMFS projects the length of the recreational fishing season and announces the recreational fishing season end date in the Federal Register. During the season, the commercial trip limit is 75 lb (34 kg), gutted weight and the recreational bag limit is 1 fish per person.

As a result of the interim measures in this temporary rule, there will be shorter commercial and recreational fishing seasons for red snapper than in previous years. The length of the red snapper commercial season has ranged from 43 to 114 days since 2017. For 2024, based on the reduced commercial ACL and as described in the EA, NMFS has projected that the commercial season will be open for 35 days but will monitor commercial landings during the season and announce a closure for the commercial sector when commercial landings reach, or are projected to reach, the commercial ACL. The length of the red snapper recreational season has ranged from 2-9 days since 2017. For 2024, based on the reduced recreational ACL and as described in the EA, NMFS determined the average of 2021, 2022 and preliminary 2023 landings scenario is the most appropriate to use to determine the 2024 fishing season, and the length of the recreational season for red snapper will be 1 day.

Management Measures Contained in This Temporary Rule

During the effectiveness of this temporary rule in 2024, the total ACL for red snapper is 31,000 fish. This temporary rule revises the commercial and recreational ACLs using the existing sector allocation ratios. Therefore, during the effectiveness of this temporary rule, the commercial ACL is reduced from 124,815 lb (56,615 kg) to 85,268 lb (38,677 kg) and the recreational ACL is reduced from 29,656 fish to 21,167 fish.

The temporary reductions in the ACLs being implemented through this temporary rule are expected to result in earlier in-season closures in 2024, particularly for the commercial sector. The earlier closures would likely result in short-term adverse social and economic effects. However, NMFS expects the temporary ACLs to minimize future adverse social and economic effects by potentially reducing future reductions in the ACLs required to end overfishing. The temporary ACLs would also provide biological benefits to the red snapper stock by reducing the current levels of fishing mortality.

This temporary rule also revises the authority of the RA to change the red snapper recreational season opening and closing dates based on certain adverse weather conditions. As previously discussed, if the RA determines that weather conditions classified by the NWS as a Small Craft Advisory or more severe exist, or are projected to exist, during an announced recreational season in the South Atlantic, the RA may modify the opening and closing dates of the recreational fishing season by filing a notification to that effect with the Office of the Federal Register, and announcing via NOAA Weather Radio and a Fishery Bulletin any change in the dates of the red snapper recreational fishing season.

The current weather flexibility authority of the RA for the commercial sector will not change as a result of this temporary rule. Given the longer length of the commercial fishing season, there is more time and greater flexibility for commercial fishermen to decide when to go to sea and when not to in consideration of adverse weather conditions, and NMFS does not expect derby-like conditions in the commercial sector.

Unless NMFS communicates a recreational fishing season date change as described in this temporary rule, the 2024 recreational season will open and close as specified in the DATES section of this temporary rule. The interim measures to revise the RA's authority to allow for changing the recreational season opening date in the case of a Small Craft Advisory or worse weather does not automatically mean that the recreational season dates would change if these conditions were to exist, or were projected to exist, in the South Atlantic. The interim measures only provide the RA greater flexibility of his authority when making weather-related decisions with respect to the recreational season.

NMFS determined that this temporary rule is necessary to reduce overfishing of red snapper in the South Atlantic. NMFS considers this action to be based on the best scientific information available. This temporary rule is effective for 180 days after the date of publication in the Federal Register, as authorized by section 305(c) of the Magnuson-Stevens Act. NMFS will not be extending the effectiveness of the interim measures past 180 days since consistent with 50 CFR 622.183(b)(5) and 622.193(y), NMFS will have already announced the commercial and recreational fishing seasons for 2024 and the seasons will be closed by the time this temporary rule expires.

NMFS and the Council will continue to explore new management measures to address red snapper overfishing in the long term. These measures could include a future amendment to the FMP developed by and recommended by the Council, as well as the preparation of a plan amendment developed by the Secretary.

2024 Commercial and Recreational Fishing Season Dates

In addition to reducing the sector ACLs for the 2024 fishing year, this temporary rule announces the red snapper commercial season opening date and the recreational season opening and closing dates for the 2024 fishing year. The 2024 commercial and recreational season lengths are determined using the temporary revised sector ACLs. This temporary rule does not alter the existing regulations with respect to the fishing season structure or announcement.

For the commercial sector, and consistent with the regulations in 50 CFR 622.183(b)(5), the 2024 red snapper commercial season opens on July 8, 2024, and will remain open until 12:01 a.m., local time, on January 1, 2025, unless the commercial ACL is reached or projected to be reached prior to this date. NMFS will monitor commercial landings during the open season, and if commercial landings reach or are projected to reach the commercial ACL, then NMFS will file a notification with the Office of the Federal Register to close the commercial sector for red snapper for the remainder of the fishing year. On or after the effective date of a commercial closure notification, all sale or purchase of red snapper is prohibited and harvest or possession of red snapper is limited to the bag and possession limits if recreational harvest is still allowed. This bag and possession limit and the prohibition on sale/purchase apply in the South Atlantic on board a vessel for which a valid Federal commercial or charter vessel/headboat permit for South Atlantic snapper-grouper has been issued without regard to where such species were harvested or possessed, i.e., in state or Federal waters. On and after the effective date of a recreational closure notification, the bag and possession limits for red snapper are zero. During the commercial fishing season, the commercial trip limit is 75 lb (34 kg), gutted weight.

For the recreational sector, and consistent with the regulations in 50 CFR 622.183(b)(5), including the interim measures in 50 CFR 622.183(b)(5)(iii), the 2024 red snapper recreational season opens at 12:01 a.m., local time, on July 12, 2024, and closes at 12:01 a.m., local time, on July 13, 2023. During the recreational season, the recreational bag limit is one red snapper per person, per day. The length of the recreational fishing season serves as the AM for the recreational sector. The length of the red snapper recreational season is projected based on catch rate estimates from previous years to avoid the recreational ACL that is in effect from being exceeded. After the closure of the recreational sector, the recreational bag and possession limits for red snapper are zero.

There is not a red snapper minimum or maximum size limit for the commercial and recreational sectors during the open seasons.

Exempted Fishing Permits (EFPs) and Other Activity

Separate from the specific action in this temporary rule, there are projects underway in the South Atlantic in 2024 that will inform the future management of red snapper and the snapper-grouper fishery. These include NMFS-funded projects to test innovative management practices through EFPs, the Council-funded Management Strategy Evaluation (MSE) of the snapper-grouper fishery, and the South Atlantic Red Snapper Research Program (SARSRP).

In early 2024, NMFS recommended funding five projects totaling $879,211 that would explore new approaches to better understand and reduce red snapper dead discards and increase fishing opportunities in the South Atlantic snapper-grouper fishery. The projects include testing innovative management strategies such as lotteries and limits to the number of trips for the recreational sector. Other projects would characterize recreational red snapper fishing behavior, catch, and discard composition, in addition to testing the use of portable electronic monitoring systems by recreational fishermen to collect information. If funded, NMFS expects project funds to be available later this summer. Three of the projects that NMFS may fund would require EFPs issued to the Florida Fish and Wildlife Conservation Commission (FWC). Through EFPs, NMFS may authorize, among other things, the target or incidental harvest of species that would otherwise be prohibited for limited testing and data collection (50 CFR 600.745(b)). The FWC submitted applications for these EFPs and NMFS took public comments on the applications through April 22, 2024 (89 FR 23977, April 5, 2024, and 89 FR 23979, April 5, 2024).

In addition, there are two other ongoing projects to gain information on the snapper-grouper fishery: the MSE and the SARSRP. The Council-funded MSE is currently being conducted for the entire snapper-grouper fishery. The MSE is a process that would allow scientists and managers to evaluate and test various management strategies to determine how best they will perform and meet management goals. The Council is scheduled to review the results of the MSE in December 2024. The SARSRP is being conducted to produce an independent estimate of the population size of South Atlantic red snapper aged 2 years and older from North Carolina through Florida. This study will help inform the next stock assessment for red snapper, which is expected to begin later in 2024 (SEDAR 90).

Classification

This action is issued pursuant to section 305(c) of the Magnuson-Stevens Act, 16 U.S.C. 1855(c). The Assistant Administrator (AA) for Fisheries, NOAA, has determined that this temporary rule is consistent with the Magnuson-Stevens Act, the FMP, and other applicable law. This action is being taken pursuant to the emergency provisions of the Magnuson-Stevens Act and is exempt from Office of Management and Budget review.

The AA finds good cause to waive the requirements to provide prior notice and opportunity for public comment pursuant to the authority set forth in 5 U.S.C. 553(b)(B). Providing prior notice and opportunity for public comment on this action would be contrary to the public interest. The red snapper stock in the South Atlantic was assessed through SEDAR 73 in 2021. The assessment indicates that the stock is overfished and continues to undergo overfishing. The Council's SSC made final catch level recommendations in September 2021, and the Council considered these recommendations in Regulatory Amendment 35. The Council considered measures to reduce overfishing in Regulatory Amendment 35 and approved measures to reduce red snapper catch levels in Regulatory Amendment 35 in March 2023, then rescinded its approval in December 2023 and did not submit Regulatory Amendment 35 to NMFS. The Council has not recommended any actions be taken that would reduce overfishing of the red snapper stock in the 2024 fishing year.

Because the Council has failed to meet the Magnuson-Stevens Act requirement to end overfishing of red snapper and develop revised catch limits that do not exceed its SSC's catch limit recommendations, NMFS has determined that interim measures to reduce overfishing of red snapper are necessary for the 2024 fishing season. Thus, this temporary rule reduces the sector ACLs for red snapper in the 2024 fishing season, announces the red snapper 2024 commercial and recreational fishing season dates in the South Atlantic, and implements additional authority for the RA to change the red snapper recreational season dates in the case of adverse weather. If NMFS were to provide prior notice and comment, NMFS would be unable to implement these measures prior to the beginning of the 2024 fishing year. Further, because the seasons begin in early July, announcing the length of the fishing seasons now allows each sector to prepare for the upcoming harvest, provides opportunity to charter vessel and headboat (for-hire) fishing vessels to book trips that could increase their revenues and profits, and gives the South Atlantic states the time needed to prepare for their respective data collection needs for the season. Therefore, the reductions in the commercial and recreational ACLs for red snapper, the announcement of the red snapper 2024 commercial and recreational fishing season dates, and implementation of the weather flexibility provision for the red snapper recreational season opening date must be implemented immediately, and prior notice and opportunity for public comment would be contrary to the public interest.

The need to implement these measures immediately for the reasons stated above also constitutes good cause under authority contained in 5 U.S.C. 553(d)(3) to waive the 30-day delay in effectiveness of the rule.

This final temporary rule is exempt from the procedures of the Regulatory Flexibility Act because the rule is issued without opportunity for prior notice and opportunity for public comment pursuant to 5 U.S.C. 553 or other law. Accordingly, no regulatory flexibility analysis is required and none has been prepared.

List of Subjects in 50 CFR Part 622

Annual catch limits, Commercial, Fisheries, Fishing, Recreational, Red Snapper, South Atlantic.

Dated: June 11, 2024.
Samuel D. Rauch III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.183, suspend paragraph (b)(5)(ii) and add paragraph (b)(5)(iii) to read as follows:

§ 622.183 Area and seasonal closures.

* * * * *

(b) * * *

(5) * * *

(iii) For the commercial sector, if the RA determines tropical storm or hurricane conditions exist, or are projected to exist, in the South Atlantic during a commercial fishing season, the RA may modify the opening and closing dates of the fishing season by filing a notification to that effect with the Office of the Federal Register and announcing via NOAA Weather Radio and a Fishery Bulletin any change in the dates of the red snapper commercial fishing season. For the recreational sector, if the RA determines that weather conditions classified by the National Weather Service at least as severe as a small craft advisory exist, or are projected to exist, in the South Atlantic EEZ, the RA may modify the opening and closing dates of the recreational fishing season by filing a notification to that effect with the Office of the Federal Register and announcing via NOAA Weather Radio and a Fishery Bulletin any change in the dates of the red snapper recreational fishing season.

* * * * *

3. In § 622.193, suspend paragraph (y) and add paragraph (aa) to read as follows:

§ 622.193 Annual catch limits (ACLs) and accountability measures (AMs).

* * * * *

(aa) Red snapper—(1) Commercial sector. The commercial ACL for red snapper is 85,268 lb (38,677 kg), round weight. See § 622.183(b)(5) for details on the commercial fishing season. NMFS will monitor commercial landings during the season, and if commercial landings, as estimated by the SRD, reach or are projected to reach the commercial ACL, the AA will file a notification with the Office of the Federal Register to close the commercial sector for red snapper for the remainder of the year. On and after the effective date of the closure notification, all sale or purchase of red snapper is prohibited and harvest or possession of red snapper is limited to the recreational bag and possession limits and only during such time as harvest by the recreational sector is allowed as described in § 622.183(b)(5). This bag and possession limit and the prohibition on sale/purchase apply in the South Atlantic on board a vessel for which a valid Federal commercial or charter vessel/headboat permit for South Atlantic snapper-grouper has been issued, without regard to where such species were harvested or possessed, i.e., in state or Federal waters.

(2) Recreational sector. The recreational ACL for red snapper is 21,167 fish. The AA will file a notification with the Office of the Federal Register to announce the length of the recreational fishing season for the current fishing year. The length of the recreational fishing season for red snapper serves as the in-season accountability measure. See § 622.183(b)(5) for details on the recreational fishing season. On and after the effective date of the recreational closure notification, the bag and possession limits for red snapper are zero.

[FR Doc. 2024-13161 Filed 6-13-24; 8:45 am]

BILLING CODE 3510-22-P